DEPARTMENT OF DEFENSE

Defense Acquisition Regulations System

[Docket Number 2015-0013]

Information Collection Requirement; Defense Federal Acquisition Regulation Supplement; Requests for Equitable Adjustment

AGENCY: Defense Acquisition Regulations System, Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology.

The Office of Management and Budget (OMB) has approved this information collection for use through August 31, 2015. DoD proposes that OMB extend its approval for use for three additional years.

DATES: DoD will consider all comments received by May 11, 2015.

ADDRESSES: You may submit comments, identified by OMB Control Number 0704-0397, using any of the following methods:

○ Federal eRulemaking Portal: http://www.regulations.gov. Follow the instructions for submitting comments.

○ Email: osd.dfars@mail.mil. Include OMB Control Number 0704-0397 in the subject line of the message.

○ Fax: 571-372-6094.

○ Mail: Defense Acquisition Regulations System, Attn: Ms. Jennifer Hawes, OUSD(AT&L)DPAP(DARS), 3060 Defense Pentagon, Room 3B941, Washington, DC 20301-3060.

Comments received generally will be posted without change to http://www.regulations.gov, including any personal information provided. To confirm receipt of your comment, please check www.regulations.gov approximately two to three days after submission to verify posting, except allow 30 days for posting of comments submitted by mail.

FOR FURTHER INFORMATION CONTACT: Ms. Jennifer Hawes, at (571) 372-6115.

SUPPLEMENTARY INFORMATION:

Title and OMB Number: Defense Federal Acquisition Regulation Supplement (DFARS) part 243, Contract Modifications, and the related clause at DFARS 252.243-7002; OMB Control Number 0704-0397.

Needs and Uses: The information collection required by the clause at DFARS 252.243-7002, Requests for Equitable Adjustment, implements 10 U.S.C. 2410(a). DoD contracting officers and auditors use this information to evaluate contractor requests for equitable adjustments to contracts.

Affected Public: Businesses or other for-profit and not-for-profit institutions.

Annual Burden Hours: 2,483.

Number of Respondents: 328.

Responses Per Respondent: 1.6, approximately.

Annual Responses: 520.

Average Burden Per Response: 4.8 hours, approximately.

Frequency: On occasion.

Summary of Information Collection

The clause at DFARS 252.243-7002, Requests for Equitable Adjustment, is prescribed at DFARS 243.205-71 for use in solicitations and contracts, including solicitations and contracts using FAR part 12 procedures for the acquisition of commercial items that are estimated to exceed the simplified acquisition threshold. The clause requires contractors to certify that requests for equitable adjustment that exceed the simplified acquisition threshold are made in good faith and that the supporting data are accurate and complete. The clause also requires contractors to fully disclose all facts relevant to the requests for adjustment.

Manuel Quinones,
Editor, Defense Acquisition Regulations System.

[FR Doc. 2015-05639 Filed 3-11-15; 8:45 am]

BILLING CODE 5001-06-P